DEPARTMENT OF AGRICULTURE

Farm Service Agency

Information Collection; Certified State Mediation Program

AGENCY: Farm Service Agency, USDA.

ACTION: Notice.

SUMMARY: In accordance with the Paperwork Reduction Act of 1995, the Farm Service Agency (FSA) is requesting comments from all interested individuals and organizations on an extension with a revision of a currently approved information collection that supports the Certified State Mediation Program. The information collection is necessary to ensure that the grant program is administered properly. The collection of information is used to determine whether participants meet the eligibility requirements to be a recipient of grant funds. Lack of adequate information to make the determination could result in the improper administration of Federal grant funds.

DATES: We will consider comments we receive by July 7, 2014.

ADDRESSES: We invite you to submit comments on this notice. In your comments, include date, volume and page number of this issue of the Federal Register. You may submit comments by any of the following methods:

• Federal eRulemaking Portal: Go to: www.regulations.gov. Follow the online instructions for submitting comments.

• Mail: Gene Christie, Senior Loan Officer, USDA, FSA, Stop 0521, 1400 Independence Avenue SW., Washington, DC 20250.

You may also send comments to the Desk Officer for Agriculture, Office of Information and Regulatory Affairs, Office of Management and Budget, Washington, DC 20503. Copies of the information collection may be requested by contacting Gene Christie at the above address.

FOR FURTHER INFORMATION CONTACT: Gene Christie; (202) 690-2517.

SUPPLEMENTARY INFORMATION: Title: Certified State Mediation Program.

OMB Control Number: 0560-0165.

Expiration Date of Approval: August 31, 2014.

Type of Request: Extension with revision.

Abstract: FSA administers the Certified State Mediation Program according to Subtitles A and B of Title V of the Agricultural Credit Act of 1987 (7 U.S.C. 5106). The number of state-certified mediation programs has remained stable for several years, and the current submission eliminates collections that are no longer applicable. In particular, requests to add a new state-certified mediation program have not been received in several years and are therefore removed from the time calculation.

To effectively administer the Program, FSA requires an application for recertification, which includes submission of a letter from the State, and completion of a letter from the grantee, SF-424, SF-424A, SF-424B, and SF-425. In addition, approved grantees provide a mid-year report as well as an annual report that includes information on mediation services provided during the preceding Federal fiscal year, assessment of the performance and effectiveness of the State's Program, and any other matters related to the Program as the State elects to include. In addition, program participants complete SF-270 to request either advance funding or reimbursement of expenses already paid. The information requested is necessary for FSA to determine participants' eligibility and administer the Program efficiently and effectively. Lastly, the times included in previous requests were excessive; they have been adjusted accordingly to reflect current use.

The formula used to calculate the total burden hours is estimated average time per response (includes travel times) hours/minutes times total annual responses. The estimated annual burden per respondent is different from the estimated average time per response because one or more forms are filed more than once a year.

Estimated Annual Burden: The public reporting burden for this information collection is estimated to average 10 hours per unduplicated respondent.

Respondents: State agencies, Universities, and Non-Profit Organizations.

Estimated Number of Respondents: 37.

Estimated Number of Responses per Respondent: 6.

Estimated Total Annual Responses: 222.

Estimated Average Time per Response: 1.66.

Estimated Total Annual Burden Hours: 370.

We are requesting comments on all aspects of this information collection to help us to:

(1) Evaluate whether the collection of information is necessary for the proper performance of FSA, including whether the information will have practical utility;

(2) Evaluate the accuracy of FSA's estimate of burden, including the validity of the methodology and assumptions used;

(3) Enhance the quality, utility, and clarity of the information to be collected; and

(4) Minimize the burden of the collection of information on those who are to respond, including through the use of appropriate automated, electronic, mechanical, or other technological collection techniques or other forms of information technology.

All responses to this notice, including name and addresses, when provided, will be summarized and included in the request for OMB approval. All comments will also become a matter of public record.

Signed on April 25, 2014.
Juan M. Garcia,
Administrator, Farm Service Agency.

[FR Doc. 2014-10161 Filed 5-2-14; 8:45 am]

BILLING CODE 3410-05-P